SELECTIVE SERVICE SYSTEM

Form Submitted to the Office of Management and Budget for Extension of Clearance

AGENCY: Selective Service System.

ACTION: Notice.

The following forms, to be used only in the event that inductions into the armed services are resumed, have been submitted to the Office of Management and Budget (OMB) for extension of clearance in compliance with the Paperwork Reduction Act (44 U.S.C. Chapter 35):

SSS Form—9 Registrant Claim Form.

SSS Form—21 Claim Documentation Form—Administrative.

SSS Form—23 Claim Documentation Form—Divinity Student.

SSS Form—24 Claim Documentation Form—Hardship to Dependents.

SSS Form—25 Claim Documentation Form—Minister of Religion.

SSS Form—26 Claim Documentation Form—Alien or Dual National.

SSS Form—27 Claim Documentation Form—Postponement of Induction.

SSS Form—109 Student Certificate.

SSS Form—130 Application by Alien for Relief from Training and Service in the Armed Forces of the United States.

SSS Form—152 Alternative Service Employment Agreement.

SSS Form—153 Employer Data Sheet.

SSS Form—156 Skills Questionnaire.

SSS Form—157 Alternative Service Job Data Form.

SSS Form—160 Request for Overseas Job Assignment.

SSS Form—163 Employment Verification Form.

SSS Form—164 Alternative Service Worker Travel Reimbursement Request.

SSS Form—166 Claim for Reimbursement for Emergency Medical Care.

Copies of the above identified forms can be obtained upon written request to the Selective Service System, Reports Clearance Officer, 1515 Wilson Boulevard, Arlington, Virginia 22209-2425.

Written comments and recommendations for the proposed extension of clearance of the form should be sent within 30 days of the publication of this notice to the Selective Service System, Reports Clearance Officer, 1515 Wilson Boulevard, Arlington, Virginia 22209-2425.

A copy of the comments should be sent to the Office of Information and Regulatory Affairs, Attention: Desk Officer, Selective Service System, Office of Management and Budget, New Executive Office Building, Room 3235, Washington, DC 20503.

Dated: July 10, 2008.
Ernest E. Garcia,
Deputy Director.

[FR Doc. E8-16790 Filed 7-23-08; 8:45 am]

BILLING CODE 8015-01-M